NUCLEAR REGULATORY COMMISSION

10 CFR Part 72

RIN 3150-AG75

List of Approved Spent Fuel Storage Casks: Standardized NUHOMS®-24P and -52B Revision; Confirmation of Effective Date

AGENCY: Nuclear Regulatory Commission.

ACTION: Direct final rule; confirmation of effective date.

SUMMARY: The Nuclear Regulatory Commission (NRC) is confirming the effective date of September 12, 2001, for the direct final rule that appeared in the Federal Register of June 29, 2001 (66 FR 34523). This direct final rule amended the NRC's regulations by revising the Standardized NUHOMS®-24P and -52B cask system listing within the “List of Approved Spent Fuel Storage Casks” to include Amendment No. 3 to Certificate of Compliance Number 1004. Amendment No. 3 will modify the present cask system design to add the -61BT dry storage canister which is the storage portion of a dual purpose cask design intended to both store and transport spent fuel. This document confirms the effective date.

DATES: The effective date of September 12, 2001, is confirmed for this direct final rule.

ADDRESSES: Documents related to this rulemaking, including comments received, may be examined at the NRC Public Document Room, 11555 Rockville Pike, Rockville, MD. These same documents may also be viewed and downloaded electronically via the rulemaking website (http://ruleforum.llnl.gov). For information about the interactive rulemaking website, contact Ms. Carol Gallagher (301) 415-5905; e-mail CAG@nrc.gov.

FOR FURTHER INFORMATION CONTACT: Gordon Gundersen, Office of Nuclear Material Safety and Safeguards, U.S. Nuclear Regulatory Commission, Washington, DC 20555. Telephone (301) 415-6195 (E-mail: GEG1@nrc.gov).

SUPPLEMENTARY INFORMATION: On June 29, 2001 (66 FR 34523), the NRC published in the Federal Register a direct final rule amending its regulations in 10 CFR 72 by revising the Standardized NUHOMS™-24P and -52B cask system listing within the “List of Approved Spent Fuel Storage Casks” to include Amendment No. 3 to Certificate of Compliance Number 1004. Amendment No. 3 will modify the present cask system design to add the -61BT dry storage canister which is the storage portion of a dual purpose cask design intended to both store and transport spent fuel. In the direct final rule, NRC stated that if no significant adverse comments were received, the direct final rule would become final on the date noted above. The NRC received a number of comments requesting an extension to the public comment period, but no supporting rationale for the extension request was provided. Some of these commenters also provided additional comments with their request. The NRC has evaluated these additional comments and determined that none of them were significant and adverse to warrant withdrawal of the direct final rule, or supported a need for an extension of the comment period.

Therefore, the request for extension is denied and the direct final rule will become effective as scheduled, September 12, 2001.

Dated at Rockville, Maryland, this 6th day of September, 2001.
For the Nuclear Regulatory Commission.
Michael T. Lesar,
Chief, Rules and Directives Branch, Division of Administrative Services, Office of Administration.

[FR Doc. 01-22863 Filed 9-11-01; 8:45 am]

BILLING CODE 7590-01-P